DEPARTMENT OF ENERGY

Federal Energy Regulatory Commission

[Project No. 10942-001]

Skykomish River Hydro, Inc.; Notice of Intent To Prepare an Environmental Impact Statement and Soliciting Comments

July 28, 2000.

On March 8, 1994, the Federal Energy Regulatory Commission (FERC or Commission) received an application for the construction and operation of the Martin Creek Project located on Martin Creek and Kelley Creek in King County, Washington. The project would be located on about 17 acres of the Mt. Baker-Snoqualmie National Forest and would have an installed capacity of 10.2 megawatts.

A Notice of Intent to prepare an Environmental Assessment (EA) in accordance with the National Environmental Policy Act (NEPA) was issued July 29, 1994. Public scoping meetings were held on August 24 and 25, 1994, in Skykomish, Washington and Bellevue, Washington, respectively. Following scoping and based on preliminary environmental analysis of the Martin Creek Project, the FERC staff has determined that licensing of the Martin Creek Project could constitute a major federal action significantly affecting the quality of the human environment. Therefore, the staff intends to prepare an Environmental Impact Statement (EIS) for the Martin Creek Project in accordance with the NEPA.

A draft EIS will be issued and circulated for review by all interested parties. All comments filed on the draft EIS will be analyzed by the staff and considered in the final EIS. The staff's conclusions and recommendations will then be presented for the consideration of the Commission in reaching its final licensing decision.

This notice informs all interested individuals, organizations, and agencies with environmental expertise and concerns, that: (1) The Commission staff has decided to prepare an EIS; (2) the scoping conducted on the Martin Creek Project for the EA and comments filed with the Commission still apply; (3) additional comments for the Martin Creek Project that may result from the change from an Environmental Assessment to an EIS may be filed with the Secretary, Federal Energy Regulatory Commission, 888 First Street, NE., Washington, DC 20426, within 60 days from the date of this notice.

All written correspondence should clearly show the following caption on the first page:

Martin Creek Hydroelectric Project, (FERC Project No. 10942-001)

Intervenors—those on the Commission's service list for this proceeding (parties)—are reminded of the Commission's Rules of Practice and Procedure, requiring parties filing documents with the Commission, to serve a copy of the document on each person whose name appears on the official service list. Further, if a party or interceder files comments or documents with the Commission relating to the merits of an issue that may affect the responsibilities of a particular resource agency, they must also serve a copy of the document on that resource agency.

Any questions regarding this notice may be directed to David Turner at (202) 219-2844.

Linwood A. Watson, Jr.,
Acting Secretary.

[FR Doc. 00-19602 Filed 8-2-00; 8:45 am]

BILLING CODE 6717-01-M